DEPARTMENT OF COMMERCE

International Trade Administration

[A-570-040]

Truck and Bus Tires From the People's Republic of China: Notice of Court Decision Not in Harmony With the Final Determination of Antidumping Duty Investigation; Notice of Amended Order; Correction

AGENCY: Enforcement and Compliance, International Trade Administration, Department of Commerce

ACTION: Notice; correction.

SUMMARY: The U.S. Department of Commerce (Commerce) published notice in the Federal Register of June 6, 2023, in which Commerce amended the antidumping duty order on truck and bus tires from the People's Republic of China (China). This notice contained an incorrect description of the amended order effective date, the merchandise that should be liquidated, and the merchandise which remains subject to the order and which remains enjoined.

FOR FURTHER INFORMATION CONTACT: Thomas Schauer, AD/CVD Operations, Office I, Enforcement and Compliance, International Trade Administration, U.S. Department of Commerce, 1401 Constitution Avenue NW, Washington, DC 20230; telephone: (202) 482-0410.

SUPPLEMENTARY INFORMATION:

Background

On June 6, 2023, Commerce published in the Federal Register a notice of decision not in harmony and amended antidumping duty order.¹ We provided an incorrect description of the amended order effective date, the merchandise that should be liquidated, and the merchandise which remains subject to the order and which remains enjoined.

¹ See Truck and Bus Tires from the People's Republic of China: Notice of Court Decision Not in Harmony with the Final Determination of Antidumping Duty Investigation; Notice of Amended Order, 88 FR 37023 (June 6, 2023).

Correction

In the Federal Register of June 6, 2023, in FR Doc 2023-12051, on page 37023, in the second and third columns, replace the last sentence in the “Summary” section as follows: “Commerce is notifying the public that the CIT's final judgment is not in harmony with Truck and Bus Tires from the People's Republic of China: Antidumping Duty Order, 84 FR 4436 (February 15, 2019) (Order), and that Commerce is amending the Order to have an effective date of February 21, 2020. With respect to Guizhou Tyre Import and Export Co., Ltd. (GTCIE), merchandise exported by GTCIE during the period February 15, 2019, through February 20, 2020, is not subject to the Order; merchandise exported by GTCIE on or after February 21, 2020, remains subject to the Order.”

In the Federal Register of June 6, 2023, in FR Doc 2023-12051, on page 37024, in the second column, replace the sentence in the “Amended Antidumping Duty Order” section as follows: “Pursuant to the Court's order, Commerce is amending the Order to have an effective date of February 21, 2020.”

In the Federal Register of June 6, 2023, in FR Doc 2023-12051, on page 37024, in the second column, make the following corrections in the “Liquidation of Suspended Entries” section:

• Correct the first sentence of the first paragraph as follows: “As a result of this amended order, Commerce will direct CBP to terminate any suspension of liquidation of entries from GTCIE during the period February 15, 2019, through February 20, 2020, and to release any bonds or other security and refund cash deposits with interest pertaining to any suspended entries from GTCIE during the period February 15, 2019, through February 20, 2020.”

• Correct the first sentence of the second paragraph as follows: “At this time, Commerce remains enjoined by CIT order from liquidating entries that were exported by GTCIE, and were entered, or withdrawn from warehouse, during the period February 21, 2020, through January 31, 2024.”

• In the third paragraph, replace “produced and/or exported by GTCIE,” with “exported by GTCIE,”.

Notification to Interested Parties

This notice is issued and published in accordance with sections 516A(c) and (e) and 777(i)(1) of the Tariff Act of 1930, as amended.

Dated: June 9, 2023.
Lisa W. Wang,
Assistant Secretary for Enforcement and Compliance.

[FR Doc. 2023-12777 Filed 6-13-23; 8:45 am]

BILLING CODE 3510-DS-P